DEPARTMENT OF ENERGY

Federal Energy Regulatory Commission

[Docket Nos. RP04-623-000 and CP01-411-006]

Tractebel Calypso Pipeline, LLC; Notice of Offer of Settlement and Shortened Comment Period

October 6, 2004.

Take notice that on September 29, 2004, Tractebel Calypso Pipeline, LLC (Tractebel) filed an Offer of Settlement on the terms of an Interconnection Agreement dated September 23, 2004 (Agreement) between itself and Florida Gas Transmission Company (FGT) for Tractebel's delivery of revaporized liquefied natural gas (LNG) to FGT through future interconnecting facilities. Among other things, the Agreement sets forth terms for financial reimbursement and indemnification between the parties; construction, ownership and operation of the interconnecting facilities; and hourly flow and minimum temperature requirements for deliveries. Tractebel also included, as Appendix B to the Settlement, conforming revisions to its pro forma tariff, now under consideration by the Commission in Docket No. CP01-411-005.

Tractebel represents that it served a copy of the filing on all participants in a complaint proceeding brought by AES Ocean Express, LLC (Ocean Express) against FGT in Docket No. RP04-249-000; on all participants in Tractebel's certificate proceeding in Docket No. CP01-409-000, et al.; and on all other persons required to be served by operation of Rule 602 of the Commission's Rules of Practice and Procedure.¹ Tractebel states that the Settlement resolves, as between Tractebel and FGT, the same interconnection issues under consideration in Ocean Express' complaint proceeding against FGT in Docket No. RP04-249-000. However, Tractebel notes that the instant Settlement does not purport to affect the outcome of the complaint proceeding.

¹ Tractebel attempted to file the Settlement in Docket No. RP04-249-000, a complaint filed by Ocean Express against FGT wherein Tractebel intervened and protested tariff revisions filed by FGT; and also in Docket No. CP01-409-000, the proceeding wherein Tractebel was granted certificate authorization to construct and operate its pipeline. The Settlement filed herein addresses, as between Tractebel and FGT only, some of the same operational issues raised in Docket No. RP04-249-000, but is not intended to address those issues as between Ocean Express and FGT. Therefore, since this filing brings a new matter before the Commission, it is assigned new Docket No. RP04-623-000. In addition, since this filing includes revisions to Tractebel's pro forma tariff, currently under review in Docket No. CP01-411-005, this filing is also assigned Docket No. CP01-411-006.

Any person desiring to intervene in the proceeding in Docket No. RP04-623-000; or to protest the filing in Docket No. CP01-411-006 or Docket No. RP04-623-000, must file in accordance with Rules 211 and 214 of the Commission's Rules of Practice and Procedure (18 CFR 385.211 and 385.214). Protests will be considered by the Commission in determining the appropriate action to be taken, but will not serve to make protestants parties to the proceeding. Any person wishing to become a party to the proceeding in Docket No. RP04-623-000 must file in accordance with the provisions of Section 154.210 of the Commission's regulations (18 CFR 154.210). Anyone filing an intervention or protest must serve a copy of that document on the Applicant. Anyone filing an intervention or protest on or before the intervention or protest date need not serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

Tractebel requests a shortened comment period under Rule 602 of 10 days for Comments, followed by 10 days for Reply Comments. In support of this request, Tractebel represents that the only parties directly affected by the Settlement are FGT, Tractebel, and its sole shipper, Tractebel Calypso LNG Marketing, LLC (TC Marketing). Tractebel also states its belief that although parties purchasing from TC Marketing may have an indirect interest in this filing, nothing in the Interconnection Agreement is inconsistent with the rights of such parties under FGT's tariff. Tractebel states that, as of the date of the filing, it received consents to the shortened comment period from the Commission's Trial Staff in Docket No. RP04-249, FGT, Florida Power & Light Company, Peoples Gas System, Tampa Electric Company and TC Marketing. The Commission finds that good cause has been shown for a shortened comment period. Accordingly, Initial Comments on the Settlement at issue in the instant Notice are due no later than October 12, 2004, and Reply Comments are due no later than October 22, 2004.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E4-2615 Filed 10-14-04; 8:45 am]

BILLING CODE 6717-01-P